DEPARTMENT OF HEALTH AND HUMAN SERVICES (HHS)

Centers for Disease Control and Prevention (CDC)

Board of Scientific Counselors, Coordinating Office for Terrorism Preparedness and Emergency Response (BSC, COTPER)

Notice of Cancellation: This notice was published in the Federal Register on November 6, 2009, Volume 74, Number 214, page 57507. The meeting previously scheduled to convene on December 8, 2009, has been cancelled. A notice will be published once the meeting is rescheduled.

Contact person for more information: Matthew Jennings, BSC Coordinator, COTPER, CDC, 1600 Clifton Rd., NE., Mailstop D-44, Atlanta, GA 30333, Telephone: (404) 639-7357; Facsimile: (404) 639-7977; E-mail: COTPER.BSC.Questions@cdc.gov.

The Director, Management Analysis and Services office has been delegated the authority to sign Federal Register notices pertaining to announcements of meetings and other committee management activities for both the CDC and the Agency for Toxic Substances and Disease Registry.

Dated: December 1, 2009.
Elaine L. Baker,
Director, Management Analysis and Service Office, Centers for Disease Control and Prevention.

[FR Doc. E9-29104 Filed 12-4-09; 8:45 am]

BILLING CODE 4163-18-P